DEPARTMENT OF HEALTH AND HUMAN SERVICES

Centers for Disease Control and Prevention

[30Day-09-09AP]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management, Washington, DC or fax to (202) 395-6974. Written comments should be received within 30 days of this notice.

Proposed Project

The National Intimate Partner and Sexual Violence Surveillance System (NISVSS)—New—National Center for Injury Prevention and Control (NCIPC), Centers for Disease Control and Prevention (CDC).

Background and Brief Description

The health burden of Intimate Partner Violence (IPV), Sexual Violence (SV) and stalking are substantial. Approximately 1.5 million women and 834,700 men are raped and/or physically assaulted by an intimate partner each year. Women are more likely than men to be victimized by almost every type of IPV, including rape, physical assault, and stalking by a current or former intimate partner. The health care costs of IPV exceed $5.8 billion each year, nearly $3.9 billion of which is for direct medical and mental health care services.

SV also has a profound and long-term impact on the physical and mental health of the victim. Existing estimates of lifetime experiences of rape range from 15% to 36% for females. Sexual violence against men, although less prevalent, is also a public health problem; approximately, 1 in 6 women and 1 in 33 men have experienced an attempted or completed rape in their lifetime. Over 302,000 women and 92,000 men were raped in the past 12 months. Thirty percent of rape victims experience major depressions at some time in their lives; 33% of victimized women and 24.2% of victimized men are counseled by a health professional; 31% develop post traumatic stress disorder; 33% contemplate suicide; and 13% attempt suicide.

Each year, approximately 1 million women and 371,000 men in the United States are stalked. There is a strong link between stalking and other forms of violence in intimate relationships; 81% of women who were stalked by a current or former intimate partner were also physically assaulted by that partner and 31% were sexually assaulted by that partner. Furthermore, 76% of female victims of intimate partner homicides were stalked by their partners before they were killed.

Currently, the United States lacks a national data source that systematically and routinely collects valid and reliable information on the magnitude and trends in IPV, SV and stalking. Such a system is needed to (1) help formulate public policies and prevention strategies related to IPV, SV and stalking; (2) guide and evaluate progress in reducing the huge health and social burden associated with IPV, SV and stalking; and (3) improve the effectiveness of federal agencies responding to IPV, SV and stalking.

In order to address this important public health problem, CDC plans to develop a national surveillance system that will generate national and state level estimates of IPV, SV and stalking. A total of 73,318 eligible households will be screened; out of the households screened approximately 38,318 will not consent or agree to participate and 35,000 will complete the survey each year. The survey will be conducted among English and/or Spanish speaking male and female adults (18 years and older) living in the United States.

There are no costs to respondents other than their time. The total estimated annual burden hours are 18,249.

Estimated Annualized Burden Hours
Type of respondent | Form name | Number of responses | Number of responses per respondent | Average burden per response (in hours)
Households | Screened | 73,318 | 1 | 3/60
| Surveyed | 35,000 | 1 | 25/60

Dated: May 28, 2009.
Maryam I. Daneshvar,
Acting Reports Clearance Officer, Centers for Disease Control and Prevention.

[FR Doc. E9-13044 Filed 6-3-09; 8:45 am]

BILLING CODE 4163-18-P